DEPARTMENT OF JUSTICE

Antitrust Division

Notice Pursuant to the National Cooperative Research and Production Act of 1993—Aerospace Vehicle Systems Institute (“AVSI”) Cooperative

Notice is hereby given that, on June 7, 2000, pursuant to Section 6(a) of the National Cooperative Research and Production Act of 1993, 15 U.S.C. 4301 et seq. (“the Act”), Aerospace Vehicle Systems Institute (“AVSI”) Cooperative has filed written notifications simultaneously with the Attorney General and the Federal Trade Commission disclosing changes in its membership and production status. The notifications were filed for the purpose of extending the Act's provisions limiting the recovery of antitrust plaintiffs to actual damages under specified circumstances. Specifically, Honeywell, Inc., Phoenix, AZ; and Allied Signal, Inc., Bellevue, WA have merged to form Honeywell International, Inc., Morristown, NJ. BFGoodrich, Charlotte, NC, acting through its BFGoodrich Aerospace Division, and Smith Industries, Grand Rapids, MI acting through its Smiths Industries Aerospace Division have been added as parties to this venture. Additionally, the AVSI Cooperative intends to work on the following joint research project: “Certification Issues for Embedded Object Oriented Software”—To investigate issues concerning the use of embedded object-oriented software in aerospace systems which require certification via the FAA DO-178B. The project will investigate advantages, study issues and recommend guidelines for the use of specific object-oriented, embedded software in safety-critical systems.

No other changes have been made in either the membership or planned activity of the group research project. Membership in this group research project remains open, and Aerospace Vehicle Systems Institute (“AVSI”) Cooperative intends to file additional written notification disclosing all changes in membership.

On November 18, 1998, Aerospace Vehicle Systems Institute (“AVSI”) Cooperative filed its original notification pursuant to Section 6(a) of the Act. The Department of Justice published a notice in the Federal Register pursuant to section 6(b) of the Act on February 18, 1999 (64 FR 8123).

The last notification was filed with the Department on September 21, 1999. A notice was published in the Federal Register pursuant to Section 6(b) of the Act on March 22, 2000 (65 FR 15174).

Constance K. Robinson,
Director of Operations, Antitrust Division.

[FR Doc. 01-5070 Filed 3-1-01; 8:45 am]

BILLING CODE 4410-11-M